DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces its denial of 43 applications from individuals who requested an exemption from the Federal vision standards applicable to interstate truck drivers and the reasons for the denials. The FMCSA has statutory authority to exempt individuals from vision standards if the exemptions granted will not compromise safety. The agency has concluded that granting these exemptions does not provide a level of safety that will equal or exceed the level of safety maintained without the exemptions for these commercial motor vehicle drivers.

FOR FURTHER INFORMATION CONTACT: Ms. Sandra Zywokarte, Office of Bus and Truck Standards and Operations, (MC-PSD), (202) 366-2987, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal vision standards for a renewable 2-year period if it finds such an exemption would likely achieve a level of safety that is equivalent to, or greater than, the level that would be achieved absent such an exemption (49 CFR 391.41(b)(10)).

Accordingly, FMCSA evaluated 43 individual exemption requests on their merits and made a determination that these applicants do not satisfy the criteria established to demonstrate that granting an exemption is likely to achieve an equal or greater level of safety than exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

The following 20 applicants lacked sufficient recent driving experience over three years:

Allen, Percy B.

Bacon, Nick D.

Clifton, Jr., Raymond E.

Coleman, Jerry D.

Hallwachs, Jerry

Hansen, Michael P.

Hardee, Richard G.

Henson, Richard M.

Hillman, Robert

Hoefner, Patrick L.

King, William J.

Levine, Martin L.

McEntyre, William C.

Meyer, Fred G.

Osuna, Jorge L.

Pierce, Jr., Charles E.

Reynolds, Glennis R.

Sharp, Ronald L.

Weeks, David N.

Whitlow, Jr., Bernard R.

Two applicants, Mr. David W. Shrimplin and Mr. Timothy D. Leggett, do not have experience operating a commercial motor vehicle (CMV) and therefore presented no evidence from which FMCSA can conclude that granting the exemption is likely to achieve a level of safety equal to that existing without the exemption.

The following 9 applicants do not have 3 years of experience driving a CMV on public highways with the vision deficiency:

Burnworth, Randy L.

Huelster, Randy

McFalls, Carol W.

Miller, Larry

Rich, Ross C.

Roberts, Michael J.

Schwab, Charles F.

Steinmetz, Daniel L.

Willhoyt, Richard P.

Four applicants do not have 3 years of recent experience driving a CMV with the vision deficiency:

Crane, James R.

Gruszecki, Ronald J.

Holland, Billie E.

Powell, Richard G.

Three applicants, Mr. Danny Netherland, Mr. Edward J. Perfetto and Mr. James J. Schaaf were issued citations in conjunction with a CMV crash, a disqualifying offense.

Two applicants, Mr. Daniel Hollins and Mr. Thomas J. Long, III, had more than two CMV moving violations during the 3-year period or while their applications were pending. Applicants are only allowed two moving violations.

One applicant's, Mr. Billy R. Fox', III, license was suspended during the 3-year period because of a moving violation. Applicants do not qualify for an exemption with a suspension during the 3-year period.

One applicant, Mr. Terry L. Larkey, had two serious CMV violations within the 3-year period. Each applicant is allowed a total of two moving citations, of which only one can be serious.

One applicant, Mr. Tracy R. Heathcock, contributed to a crash while operating a CMV, which is a disqualifying offense.

Issued on: March 11, 2004.
Rose A. McMurray,
Associate Administrator for Policy and Program Development.

[FR Doc. 04-6031 Filed 3-16-04; 8:45 am]

BILLING CODE 4910-EX-P